SMALL BUSINESS ADMINISTRATION

Data Collection Available for Public Comments

ACTION: 60 Day notice and request for comments.

SUMMARY: In accordance with the Paperwork Reduction Act of 1995, this notice announces the Small Business Administration's intentions to request approval on a new and/or currently approved information collection.

DATES: Submit comments on or before June 29, 2020.

ADDRESSES: Send all comments regarding whether this information collection is necessary for the proper performance of the function of the agency, whether the burden estimates are accurate, and if there are ways to minimize the estimated burden and enhance the quality of the collection, to Mary Frias, Loan Specialist, Office of Financial Assistance, Small Business Administration, 409 3rd Street, 8th Floor, Washington, DC 20416.

FOR FURTHER INFORMATION CONTACT: Mary Frias, Loan Specialist, 202-401-2012 mary.frias@sba.gov Curtis B. Rich, Management Analyst, 202-205-7030 curtis.rich@sba.gov

SUPPLEMENTARY INFORMATION: The Small Business Administration requires information to be disclosed to the buyer when a secondary market loan is transferred from one investor to another. This information includes a constant annual prepayment rate based upon the seller's analysis of prepayment histories of SBA guaranteed loans with similar maturities. Additionally, information is required on the terms, conditions and yield of the security being transferred.

Title: “Form of Detached Assignment for U.S. Small Business Administration Loan Pool or Guarantee Interest Certificate”.

Form Number: 1088.

Annual Responses: 856.

Annual Burden: 733.

Curtis Rich,
Management Analyst.

[FR Doc. 2020-09030 Filed 4-28-20; 8:45 am]

BILLING CODE 8026-03-P